DEPARTMENT OF TRANSPORTATION

Pipeline and Hazardous Materials Safety Administration

[Docket No. PHMSA-98-4470]

Pipeline Safety: Meetings of the Technical Pipeline Safety Standards Committee and the Technical Hazardous Liquid Pipeline Safety Standards Committee

AGENCY: Pipeline and Hazardous Materials Safety Administration (PHMSA), U.S. Department of Transportation (DOT).

ACTION: Notice of canceled meetings and public workshop.

SUMMARY: This notice cancels the Wednesday, April 25 and Thursday, April 26, 2007 meetings of PHMSA's Technical Pipeline Safety Standards Advisory Committee (TPSSC) and Technical Hazardous Liquid Pipeline Safety Standards Committee (THLPSSC) and a public workshop.

FOR FURTHER INFORMATION CONTACT: For additional information regarding this notice contact Cheryl Whetsel at (202) 366-4431, or by e-mail at cheryl.whetsel@dot.gov.

SUPPLEMENTARY INFORMATION: On February 12, 2007, the THLPSSC discussed a proposal to extend pipeline safety regulations to the unregulated hazardous liquid gathering lines and low stress pipelines, and potential changes to the proposal to address the requirements of the Pipeline Integrity, Protection, Enforcement and Safety Act of 2006. PHMSA expects to incorporate these changes into a supplemental notice of proposed rulemaking (SNPRM) within the next few weeks. PHMSA published a Federal Register notice on March 23, 2007 (72 FR 13559) which announced April meetings. The THLPSSC was to consider and vote on the SNPRM. PHMSA has decided an April meeting would not give the THLPSSC sufficient time to review the SNPRM. In addition, the THLPSSC would not have the benefit of viewing the public comments on the SNPRM. PHMSA will schedule a THLPSSC meeting later in the year to consider and vote on this rulemaking proposal.

The other rulemaking item on the April agenda was a TPSSC meeting to consider and vote on a proposal to relax regulatory requirements governing public awareness programs conducted by operators of master meter systems and certain operators of petroleum gas systems. The proposal is a minor non-controversial change to an existing rulemaking PHMSA will schedule a TPSSC telephone meeting later in the year to consider and vote on this rulemaking proposal.

Lastly, PHMSA continues to evaluate reassessment intervals for gas integrity management programs. PHMSA may reschedule the public workshop canceled by this notice or decide on an alternative way to seek public input.

Authority: 49 U.S.C. 60102, 60115.

Issued in Washington, DC on March 30, 2007.
Jeffrey D. Wiese,
Acting Associate Administrator for Pipeline Safety.

[FR Doc. E7-6426 Filed 4-5-07; 8:45 am]

BILLING CODE 4910-60-P